OFFICE OF THE UNITED STATES TRADE REPRESENTATIVE

[Docket No. WTO/DS-282]

WTO Dispute Settlement Proceeding Regarding Antidumping Measures on Oil Country Tubular Goods From Mexico

AGENCY: Office of the United States Trade Representative.

ACTION: Notice; request for comments.

SUMMARY: The Office of the United States Trade Representative (“USTR”) is providing notice that, at the request of the Government of Mexico, a dispute settlement panel under the Marrakesh Agreement Establishing the World Trade Organization (“WTO Agreement”) is reviewing various measures relating to the antidumping duty order on oil country tubular goods (“OCTG”) from Mexico. Mexico alleges that determinations made by U.S. authorities concerning this product, and certain related matters, are inconsistent with Articles 1, 2, 3, 6, 11, and 18 of the Agreement on Implementation of Article VI of the General Agreements on Tariffs and Trade 1994 (“AD Agreement”), Articles VI and X of the General Agreement on Tariffs and Trade 1994 (“GATT 1994”), and Article XVI:4 of the WTO Agreement. USTR invites written comments from the public concerning the issues raised in this dispute.

DATES: Although USTR will accept any comments received during the course of the dispute settlement proceedings, comments should be submitted on or before July 7, 2004, to be assured of timely consideration by USTR.

ADDRESSES: Comments should be submitted (i) electronically, to FR0432@ustr.gov, with “Mexico OCTG Dispute” in the subject line, or (ii) by fax, to Sandy McKinzy at (202) 395-3640, with a confirmation copy sent electronically to the address above, in accordance with the requirements for submission set out below.

FOR FURTHER INFORMATION CONTACT: Elizabeth Baltzan, Assistant General Counsel, Office of the United States Trade Representative, 600 17th Street, NW., Washington, DC 20508, (202) 395-3582.

SUPPLEMENTARY INFORMATION: Section 127(b) of the Uruguay Round Agreements Act (“URAA”) (19 U.S.C. 3537(b)(1)) requires that notice and opportunity for comment be provided after the United States submits or receives a request for the establishment of a WTO dispute settlement panel. Consistent with this obligation, USTR is providing notice that a dispute settlement panel has been established pursuant to the WTO Dispute Settlement Understanding (“DSU”). The panel will hold its meetings in Geneva, Switzerland, and is expected to issue a report on its findings and recommendations sometime after March 2005.

Major Issues Raised by Mexico

With respect to the measures at issue, Mexico's panel request refers to the following:

• The final sunset review determinations on OCTG from Mexico by the U.S. Department of Commerce (“Commerce”) (66 FR 14131 (March 9, 2001), and the U.S. International Trade Commission (“ITC”) (USITC Publication No. 3434 (June 2001) and 66 FR 35997 (July 10, 2001)), as well as the resulting continuation by Commerce of the antidumping duty order on OCTG from Mexico (66 FR 38630 (July 25, 2001));

• The final results of the fourth administrative review of the antidumping duty order on OCTG from Mexico (66 FR 15832 (March 21, 2001);

• Sections 751 and 752 of the Tariff Act of 1930;

• The URAA Statement of Administrative Action, H.R. Doc. No. 103-316, vol. 1 (1994);

• Commerce's Sunset Policy Bulletin (63 FR 18871 (April 16, 1998));

• Commerce's sunset review regulations, 19 CFR 351.218;

• The ITC's sunset review regulations, 19 CFR 207.60-69; and

• Portions of Commerce's regulations governing administrative reviews, 19 CFR 351.213, 351.221, and 351.222.

With respect to the claims of WTO-inconsistency, Mexico's panel request refers to the following:

• With regard to the sunset review conducted by Commerce, Commerce's “likely” standard, its determination in this regard, and Commerce's calculation of the likely dumping margin reported to the ITC, as such and as applied.

• With regard to the sunset review conducted by the ITC:

• The ITC's “likely” standard, as such and as applied;

• The statutory requirements that the ITC determine whether revocation of the order would be likely to lead to continuation or recurrence of material injury “within a reasonably foreseeable time” and that the ITC “shall consider that the effects of revocation or termination may not be imminent, but may manifest themselves only over a longer period of time”, both as such and as applied;

• The ITC's failure to conduct an “objective examination” of the record based on “positive evidence”;

• The ITC's failure to base its determination on a proper analysis of dumped imports, their effect on prices in the domestic market, and the consequent impact of the dumped imports on the domestic industry;

• The ITC's failure to evaluate all relevant economic factors and indices having a bearing on the state of the domestic industry;

• The ITC's failure to consider “any known factors other than the dumped imports'';

• The ITC's improper consideration of the WTO-inconsistent margin reported by Commerce; and

• The ITC's use of a “cumulative” injury analysis.

• With regard to the fourth administrative review conducted by Commerce:

• Commerce's determination not to revoke the antidumping duty order when it was demonstrated that the maintenance of the order was not necessary to offset dumping;

• Commerce's application of conditions for revocation on TAMSA that were not WTO-inconsistent and that had not been published in advance of their application; and

• Commerce's use of “zeroing” with respect to so-called “negative dumping margins” with respect to Hylsa.

• The failure by Commerce and the ITC to apply U.S. antidumping laws, regulations, decisions and rulings in a uniform, impartial, and reasonable manner.

Requirements for Submissions

Interested persons are invited to submit written comments concerning the issues raised in this dispute. Persons submitting comments may either send one copy by fax to Sandy McKinzy at (202) 395-3640, or transmit a copy electronically to FR0069@ustr.gov, with “Mexico OCTG Dispute” in the subject line. For documents sent by fax, USTR requests that the submitter provide a confirmation copy electronically, to the electronic mail address listed above. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitting person. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE” at the top and bottom of the cover page and each succeeding page of the submission; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket No. WT/DS-282, Mexico OCTG Dispute) may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 04-13947 Filed 6-18-04; 8:45 am]

BILLING CODE 3190-W4-P